DEPARTMENT OF COMMERCE

International Trade Administration

Initiation of Antidumping and Countervailing Duty Administrative Reviews and Request for Revocation in Part

AGENCY: Import Administration, International Trade Administration, Department of Commerce.

SUMMARY: The Department of Commerce (the Department) has received requests to conduct administrative reviews of various antidumping and countervailing duty orders and findings with March anniversary dates. In accordance with the Department's regulations, we are initiating those administrative reviews. The Department also received a request to revoke one antidumping duty order in part.

DATES: Effective Date: April 25, 2008.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2004), for administrative reviews of various antidumping and countervailing duty orders and findings with March anniversary dates. The Department received a timely request to revoke in part the antidumping duty order on Certain Tissue Paper Products from the People's Republic of China with respect to one exporter.

Initiation of Reviews

In accordance with section 19 CFR 351.221(c)(1)(i), we are initiating administrative reviews of the following antidumping and countervailing duty orders and findings. We intend to issue the final results of these reviews not later than March 31, 2009.

| Period to be reviewed
Antidumping Duty Proceedings
BRAZIL: Certain Hot-Rolled Carbon Steel Flat Products A-351-828 | 3/1/07-2/29/08
Companhia Siderurgica Nacional
Companhia Siderurgica de Tubarao
BRAZIL: Certain Orange Juice A-351-840 | 3/1/07-2/29/08
Fischer S.A. Comercio, Industria, and Agricultura (successor-in-interest to Fischer S/A Agroindustria)
Sucocitrico Cutrale Ltda
GERMANY: Brass Sheet and Strip A-428-602 | 3/1/07-2/29/08
Wieland-Werke AG
THAILAND: Circular Welded Carbon Steel Pipes and Tubes A-549-502 | 3/1/07-2/29/08
Saha Thai Steel Pipe Company, Ltd
THE PEOPLE'S REPUBLIC OF CHINA: Certain Tissue Paper Products¹ A-570-894 | 3/1/07-2/29/08
Foshan Sansico Co., Ltd
Guilin Qifeng Paper Co., Ltd
Max Fortune Industrial Limited/Max Fortune (FETDE) Paper Products Co., Ltd
PT Grafitecindo Ciptaprima
PT Printec Perkasa
PT Printec Perkasa II
PT Sansico Utama
Sansico Asia Pacific Limited
Vietnam Quijiang Paper Co., Ltd
THE PEOPLE'S REPUBLIC OF CHINA: Glycine² A-570-836 | 3/1/07-2/29/08
A.H.A. International Company, Ltd
Amol Biotech Limited
Antai Bio-Tech Co. Limited
Baoding Mantong Fine Chemistry Co., Ltd
Beijing Jian Li Pharmaceutical Company
Degussa Rexim (Nanning)
Du-Hope International Group
Hua Yip Company Inc
Hubei guangji Pharmaceutical Co
Huzhou New Century International Trade Co
Jizhou City Huayang Chemical Company, Ltd
Jiangxi Ansun Chemical Technology
Nantong Dongchang Chemical Industry Corp
Nantong Weifu Foreign Trade Co., Ltd
Pudong Trans USA, Inc
Qingdao Samin Chemical Company, Ltd
Santec Chemicals Corporation
Schenker China Ltd
Shanghai Freemen Lifescience Co., Ltd
Sinosweet Co., Ltd
Suzhou Everich Imp. & Exp. Co., Ltd
Taigene Global Enterprises Ltd
Tianjin Tiancheng Pharmaceutical Co
Wenda Co., Ltd
¹ If one of the above-named companies does not qualify for a separate rate, all other rate, all other exporters of Certain Tissue Paper Products from the People's Republic of China who have not qualified for a separate rate are deemed to be covered by this new review as part of the single PRC entity of which the named exporters are a part.
² If one of the above-named companies does not qualify for a separate rate, all other exporters of Glycine from the People's Republic of China who have not qualified for a separate rate are deemed to be covered by this review as part of the single PRC entity of which the named exporters are a part.

Countervailing Duty Proceedings

None.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1765(a)), and 19 CFR 351.221(c)(1)(i).

Dated: April 21, 2008.
Stephen J. Claeys,
Deputy Assistant Secretary for Import Administration.

[FR Doc. E8-9123 Filed 4-24-08; 8:45 am]

BILLING CODE 3510-DS-P